DEPARTMENT OF TRANSPORTATION

Federal Aviation Administration

14 CFR Part 39

[Docket No. 2001-NM-62-AD; Amendment 39-13119; AD 2003-08-08]

RIN 2120-AA64

Airworthiness Directives; McDonnell Douglas Model MD-11 and -11F Airplanes

AGENCY: Federal Aviation Administration, DOT.

ACTION: Final rule.

SUMMARY: This amendment supersedes an existing airworthiness directive (AD), applicable to certain McDonnell Douglas Model MD-11 and -11F airplanes, that currently requires, among other actions, a one-time inspection to detect discrepancies at certain areas around the entry light connector of the sliding ceiling panel above the forward passenger doors; repair, if necessary; and installation or modification of a flapper door ramp deflector on the forward entry drop ceiling structure. That AD also currently requires an inspection of the wire assembly support installation above the entry door (L1) sliding panel for chafing, and repair, if necessary. This amendment requires the existing requirements and requires replacing the wire support bracket with new support clip assemblies. The actions specified by this AD are intended to prevent chafing of electrical wire assemblies above the forward passenger doors and above the entry door (L1) sliding panel of the forward drop ceiling on the passenger compartment, which could result in electrical arcing, and consequent electrical fire in the passenger compartment. This action is intended to address the identified unsafe condition.

DATES: Effective May 27, 2003.

The incorporation by reference of Boeing Alert Service Bulletin MD11-24A068, Revision 02, dated May 16, 2001; and Boeing Alert Service Bulletin MD11-25A194, Revision 07, dated January 9, 2002; as listed in the regulations, is approved by the Director of the Federal Register as of May 27, 2003.

The incorporation by reference of McDonnell Douglas Alert Service Bulletin MD11-25A194, Revision 05, dated June 21, 1999, as listed in the regulations, was previously approved by the Director of the Federal Register as of March 23, 2000 (65 FR 8034, February 17, 2000).

The incorporation by reference of McDonnell Douglas Alert Service Bulletin MD11-25A194, Revision 06, dated January 27, 2000, as listed in the regulations, was previously approved by the Director of the Federal Register as of January 8, 2001 (65 FR 75612, December 4, 2000).

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2000-24-11, amendment 39-12018 (65 FR 75612, December 4, 2000), which is applicable to certain McDonnell Douglas Model MD-11 and -11F airplanes, was published in the Federal Register on August 29, 2002 (67 FR 55368). The action proposed to continue to require, among other actions, a one-time inspection to detect discrepancies at certain areas around the entry light connector of the sliding ceiling panel above the forward passenger doors; repair, if necessary; and installation or modification of a flapper door ramp deflector on the forward entry drop ceiling structure. The action also proposed to continue to require an inspection of the wire assembly support installation above the entry door (L1) sliding panel for chafing, and repair, if necessary. The action also proposed to require replacement of the wire support bracket with new support clip assemblies.

Comments

Interested persons have been afforded an opportunity to participate in the making of this amendment. Due consideration has been given to the comments received.

Request To Revise the Applicability

One commenter states that it is exempt from the requirements of Boeing Alert Service Bulletin MD11-24A068, Revision 02, dated May 16, 2001 (which is referenced in the notice of proposed rulemaking (NPRM) as an appropriate source of service information for accomplishing certain proposed actions), because of the statement in the note in paragraph 1., “Planning Information” of the service bulletin. The note states, “Airplanes that have been modified from passenger to freighter and have had the entry door (L1) sliding panel described in this service bulletin removed are not affected.” The commenter further states that its fleet has had all sliding panels removed.

From this comment, the FAA infers that the commenter is requesting that we revise the applicability of the NPRM to exclude those airplanes mentioned by the commenter. No change to the final rule is necessary because the third column of Table 1—Applicability of this AD already excludes affected airplanes “modified from a passenger to a freighter configuration on which the entry door (L1) sliding panel described in Boeing Alert Service Bulletin MD11-24A068, Revision 02, dated May 16, 2001, has been removed.”

The same commenter notes that in Table 1—Applicability, the first service bulletin listed is McDonnell Douglas Alert Service Bulletin MD11-24A194, Revision 06, dated January 27, 2000. The commenter believes the service bulletin should be MD11-25A194. The commenter notes that Service Bulletin MD11-24A194, original issue, dated January 29, 2002, describes procedures for an inspection of the overhead flight compartment, not the L1 entry door.

From this comment, we infer that the commenter is requesting that the correct service bulletin be referenced in the applicability. We agree. It was our intent, as noted elsewhere in the NPRM, to specify McDonnell Douglas Alert Service Bulletin MD11-25A194, Revision 06, dated January 27, 2000, in Table 1—Applicability of this AD. Therefore, we have revised that table accordingly.

Request To Reference Latest Service Bulletin

The same commenter notes that McDonnell Douglas Alert Service Bulletin MD11-25A194 is now up to Revision 07, dated January 9, 2002.

From this comment, we infer that the commenter is requesting that the NPRM be revised to reference that revision as an additional source of service information for accomplishing the proposed installation and modification. We agree. We have reviewed and approved Revision 07 of Boeing Alert Service Bulletin MD11-25A194. Revision 07, among other editorial changes, deletes fuselage number 0450 from the service bulletin effectivity. Therefore, we have revised the final rule to reference that revision as an appropriate source of service information for determining the applicability of the AD and for accomplishing the required installation and modification. In addition, we have revised the Cost Impact figures accordingly.

Explanation of Change to Notes

Since the language in Notes 3 and 5 of the NPRM are regulatory in nature, we have redesignated those notes as paragraphs in this final rule and have renumbered subsequent paragraphs and notes accordingly.

Explanation of Change to Inspection Definitions

We have changed all references to a “detailed visual inspection” in the existing AD (requirements are restated in paragraphs (a) through (f) of this final rule) to “detailed inspection” in this final rule to correspond with the terminology in MSG-3. For clarification purposes, we also have revised the definition of a “detailed inspection” in Note 2 of this final rule and a “general visual inspection” in Note 3 of this final rule.

Conclusion

After careful review of the available data, including the comments noted above, the FAA has determined that air safety and the public interest require the adoption of the rule with the changes previously described. The FAA has determined that these changes will neither increase the economic burden on any operator nor increase the scope of the AD.

Cost Impact

1. Actions Currently Required by AD 2000-24-11 and Retained in This AD

There are approximately 110 airplanes of the affected design in the worldwide fleet that are affected by the actions currently required by AD 2000-24-11 and retained in this AD. Of these 110 airplanes, the FAA estimates that 21 airplanes of U.S. registry will be affected by this AD.

The inspection to detect discrepancies around the entry light connector of the slide ceiling panel above the forward passenger doors takes approximately 2 work hours per airplane to accomplish, at an average labor rate of $60 per work hour. Based on these figures, the cost impact of this currently required inspection on U.S. operators is estimated to be $2,520, or $120 per airplane.

For Group 1 airplanes as specified in Boeing Alert Service Bulletin MD11-25A194, Revision 07 (approximately 16 airplanes of U.S. registry), the installation of the flapper door ramp deflector takes approximately 8 work hours per airplane to accomplish, at an average labor rate of $60 per work hour. Required parts cost approximately $455 per airplane. Based on these figures, the cost impact of this currently required installation on U.S. operators of Group 1 airplanes is estimated to be $14,960, or $935 per airplane.

For Group 2 airplanes as specified in Boeing Alert Service Bulletin MD11-25A194, Revision 07 (approximately 8 airplanes of U.S. registry), the installation of the flapper door ramp deflector takes approximately 8 work hours per airplane to accomplish, at an average labor rate of $60 per work hour. Required parts cost approximately $890 per airplane. Based on these figures, the cost impact of this currently required installation on U.S. operators of Group 2 airplanes is estimated to be $10,960, or $1,370 per airplane.

For airplanes listed in McDonnell Douglas Alert Service Bulletin MD11-24A068, Revision 01, dated March 8, 1999 (approximately 21 airplanes of U.S. registry), the inspection of the wire assembly support installation takes approximately 1 work hour per airplane to accomplish, at an average labor rate of $60 per work hour. Based on these figures, the cost impact of this currently required inspection on U.S. operators is estimated to be $1,260, or $60 per airplane.

For airplanes in Groups 1 and 3 as specified in Boeing Alert Service Bulletin MD11-25A194, Revision 07 (approximately 18 airplanes of U.S. registry), the modification of the ramp deflector assembly support bracket takes approximately 2 work hours per airplane to accomplish, at an average labor rate of $60 per work hour. Based on these figures, the cost impact of this currently required modification on U.S. operators is estimated to be $2,160, or $120 per airplane.

2. New Actions Required by This AD

There are approximately 194 Model MD-11 and -11F airplanes of the affected design in the worldwide fleet that are affected by the actions required by this AD. Of these 194 airplanes, the FAA estimates that 64 airplanes of U.S. registry will be affected by this AD.

The new actions required by paragraph (g) of this AD will take approximately 3 work hours per airplane to accomplish, at an average labor rate of $60 per work hour. Required parts will cost approximately $294 per airplane. Based on these figures, the cost impact of the new requirements of this AD on U.S. operators is estimated to be $30,336, or $474 per airplane.

3. Cost Estimate Calculation Information

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12018 (65 FR 75612, December 4, 2000), and by adding a new airworthiness directive (AD), amendment 39-13119, to read as follows:

2003-08-08 McDonnell Douglas: Amendment 39-13119. Docket 2001-NM-62-AD. Supersedes AD 2000-24-11, Amendment 39-12018.

Applicability: The following airplanes listed in Table 1 of this AD, certificated in any category:

Table 1.—Applicability
Model | As listed in— | Excluding airplanes—
MD-11 and MD-11F airplanes | Boeing Alert Service Bulletin MD11-25A194, Revision 07, dated January 9, 2002 | None.
MD-11 and MD-11F airplanes | Boeing Alert Service Bulletin MD11-24A068, Revision 02, dated May 16, 2001 | Modified from a passenger to a freighter configuration on which the entry door (L1) sliding panel described in Boeing Alert Service Bulletin MD11-24A068, Revision 02, dated May 16, 2001, has been removed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Required as indicated, unless accomplished previously.

To prevent chafing of electrical wire assemblies above the forward passenger doors and above the entry door (L1) sliding panel of the forward drop ceiling on the passenger compartment, which could result in electrical arcing, and consequent electrical fire in the passenger compartment, accomplish the following:

Requirements of AD 2000-24-11

Detailed Inspection

(a) For airplanes listed in McDonnell Douglas Alert Service Bulletins MD11-25A194, Revision 05, dated June 21, 1999; and MD11-24A068, Revision 01, dated March 8, 1999: Within 10 days after December 28, 1998 (the effective date of AD 98-25-11 R1, amendment 39-10988), perform a detailed inspection of the aircraft wiring to detect discrepancies that include but are not limited to frayed, chafed, or nicked wires and wire insulation in the areas specified in paragraphs (a)(1) and (a)(2) of this AD.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) At the area of the forward drop ceiling just outboard of mod block S3-735, and forward and inboard of the light ballast for the entry light on the sliding ceiling panel above the forward left passenger door (1L) at station location x = 24.75, y = 435, and z = 64.5.

(2) At the area above the forward right passenger door (1R) at station location x = −30, y = 430, and z = 70 in the ramp deflector assembly part number 4223570-501.

Corrective Action

(b) If any discrepancy is detected during the detailed inspection required by paragraph (a) of this AD, prior to further flight, repair in accordance with Chapter 20, Standard Wiring Practices of the MD-11 Wiring Diagram Manual, dated January 1, 1998, or April 1, 1998.

Inspection, Installation, and Modification

(c) For airplanes listed in McDonnell Douglas Alert Service Bulletin MD11-25A194, Revision 05, dated June 21, 1999; or MD11-24A068, Revision 01, dated March 8, 1999: Within 6 months after March 23, 2000 (the effective date of AD 2000-03-10, amendment 39-11569), accomplish the actions specified in paragraphs (c)(1), (c)(2), (c)(4), and (c)(5) of this AD, as applicable.

(1) For Group 1 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; McDonnell Douglas Alert Service Bulletin MD11-25A194, Revision 06, dated January 27, 2000; or Boeing Alert Service Bulletin MD11-25A194, Revision 07, dated January 9, 2002. After the effective date of this AD, only Revision 07 of the alert service bulletin shall be used.

(2) For Group 2 airplanes listed in McDonnell Douglas Alert Service Bulletin MD11-25A194, Revision 05, dated June 21, 1999: Install a ramp deflector assembly on the right side forward entry drop ceiling structure in accordance with McDonnell Douglas Alert Service Bulletin MD11-25A194, Revision 05, dated June 21, 1999; McDonnell Douglas Alert Service Bulletin MD11-25A194, Revision 06, dated January 27, 2000; or Boeing Alert Service Bulletin MD11-25A194, Revision 07, dated January 9, 2002. After the effective date of this AD, only Revision 07 of the alert service bulletin shall be used.

(3) Installation of a ramp deflector assembly in accordance with McDonnell Douglas Service Bulletin MD11-25-194, dated March 15, 1996; Revision 01, dated May 1, 1996; Revision 02, dated July 12, 1996; Revision 03, dated December 12, 1996; or Revision 04, dated March 8, 1999; is acceptable for compliance with the requirements of paragraph (c)(2) of this AD.

(4) For Group 3 airplanes listed in McDonnell Douglas Alert Service Bulletin MD11-25A194, Revision 05, dated June 21, 1999: Modify the previously installed ramp deflector assembly bracket in accordance with McDonnell Douglas Alert Service Bulletin MD11-25A194, Revision 05, dated June 21, 1999; McDonnell Douglas Alert Service Bulletin MD11-25A194, Revision 06, dated January 27, 2000; or Boeing Alert Service Bulletin MD11-25A194, Revision 07, dated January 9, 2002. After the effective date of this AD, only Revision 07 of the alert service bulletin shall be used.

(5) For airplanes listed in McDonnell Douglas Alert Service Bulletin MD11-24A068, Revision 01, dated March 8, 1999: Perform a general visual inspection of the wire assembly support installation for evidence of chafing, in accordance with the service bulletin. If any chafing is detected, prior to further flight, repair or replace any discrepant part with a new part in accordance with the service bulletin.

Note 3: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

One-Time Inspection

(d) For airplanes other than those identified in paragraph (a) of this AD: Within 10 days after January 8, 2001 (the effective date of AD 2000-24-11, amendment 39-12018), perform a detailed inspection of the aircraft wiring to detect discrepancies that include but are not limited to frayed, chafed, or nicked wires and wire insulation in the areas specified in paragraphs (a)(1) and (a)(2) of this AD. If any discrepancy is found, prior to further flight, repair in accordance with the requirements of paragraph (b) of this AD.

(e) Accomplishment of the inspection required by paragraph (a) of AD 98-25-11 R1, amendment 39-10988, prior to the effective date of this AD, is acceptable for compliance with paragraph (d) of this AD.

Modification

(f) For airplanes listed in Group 3 of McDonnell Douglas Alert Service Bulletin MD11-25A194, Revision 06, dated January 27, 2000: Within 6 months after January 8, 2001, modify the ramp deflector assembly support bracket on the right side forward entry door drop ceiling structure, in accordance with McDonnell Douglas Alert Service Bulletin MD11-25A194, Revision 06, dated January 27, 2000; or Boeing Alert Service Bulletin MD11-25A194, Revision 07, dated January 9, 2002. After the effective date of this AD, only Revision 07 of the alert service bulletin shall be used.

New Actions Required by This AD

Inspection, Corrective Action, if Necessary, and Replacement

(g) For airplanes listed in Groups 1 and 2 in Boeing Alert Service Bulletin MD11-24A068, Revision 02, dated May 16, 2001: Within 6 months after the effective date of this AD, do the actions specified in paragraphs (g)(1) and (g)(2) of this AD.

(1) Do a general visual inspection of the wire assembly support installation above the entry door (L1) sliding panel of the forward drop ceiling of the passenger compartment for chafing per the service bulletin. If any chafing is found, before further flight, repair per the service bulletin.

(2) Replace the wire support bracket with new support clip assemblies and ensure adequate clearance exists for all parts of the wire assembly, including breakouts to module blacks and grounds, per the service bulletin.

Alternative Methods of Compliance

(h) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(i) Special flight permits may be issued in accordance with sections 21.197 and 21.199 of the Federal Aviation Regulations (14 CFR 21.197 and 21.199) to operate the airplane to a location where the requirements of this AD can be accomplished.

Incorporation by Reference

(j) Unless otherwise specified in this AD, the actions shall be done in accordance with McDonnell Douglas Alert Service Bulletin MD11-25A194, Revision 05, dated June 21, 1999; McDonnell Douglas Alert Service Bulletin MD11-25A194, Revision 06, dated January 27, 2000; Boeing Alert Service Bulletin MD11-25A194, Revision 07, dated January 9, 2002; and Boeing Alert Service Bulletin MD11-24A068, Revision 02, dated May 16, 2001; as applicable.

(1) The incorporation by reference of Boeing Alert Service Bulletin MD11-24A068, Revision 02, dated May 16, 2001; and Boeing Alert Service Bulletin MD11-25A194, Revision 07, dated January 9, 2002; is approved by the Director of the Federal Register in accordance with 5 U.S.C. 552(a) and 1 CFR part 51.

(2) The incorporation by reference of McDonnell Douglas Alert Service Bulletin MD11-25A194, Revision 05, dated June 21, 1999, was previously approved by the Director of the Federal Register as of March 23, 2000 (65 FR 8034, February 17, 2000).

(3) The incorporation by reference of McDonnell Douglas Alert Service Bulletin MD11-25A194, Revision 06, dated January 27, 2000, was previously approved by the Director of the Federal Register as of January 8, 2001 (65 FR 75612, December 4, 2000).

(4) Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(k) This amendment becomes effective on May 27, 2003.

Issued in Renton, Washington, on April 10, 2003.
Ali Bahrami,
Acting Manager, Transport Airplane Directorate, Aircraft Certification Service.

[FR Doc. 03-9429 Filed 4-18-03; 8:45 am]

BILLING CODE 4910-13-P